DEPARTMENT OF THE INTERIOR

National Park Service

[NPS-SERO-FOMA-16121; PPSESEROC3, PMP00UP05.YP0000]

Record of Decision for the General Management Plan, Fort Matanzas National Monument, Florida

AGENCY: National Park Service, Interior.

ACTION: Notice of availability.

SUMMARY: Pursuant to 42 U.S.C. 4332(2)(C) of the National Environmental Policy Act of 1969, the National Park Service (NPS) announces the availability of the Record of Decision (ROD) for the General Management Plan (GMP) for Fort Matanzas National Monument (National Monument). On 08/01/14, the Regional Director, Southeast Region, approved the ROD for the project.

FOR FURTHER INFORMATION CONTACT: Superintendent Gordon Wilson, Fort Matanzas National Monument, One South Castillo Drive, St. Augustine, FL 32084; telephone (904) 829-6506, Ext. 221.

SUPPLEMENTARY INFORMATION: The NPS evaluated three alternatives for managing use and development of the national monument in the GMP Final Environmental Impact Statement:

Alternative A—No action.

Alternative B—The preferred alternative would continue the ban on off-road vehicle access to the Anastasia Island Beach within the National Monument boundary and would manage the site in a manner consistent with its history as a small military outpost within a sometimes harsh, but beautiful and rich natural environment. There would be minimal development of new facilities and minimal expansion of existing facilities. There would be increased emphasis on the interpretation of the natural environment.

Alternative C—The NPS would seek authority to permit driving within defined geographical limits on the Anastasia Island beach within the National Monument boundary through the promulgation of a Special Regulation and the preparation of an Off Road Vehicle Plan and an Environmental Impact Statement. This alternative combines the history of the Rattlesnake Island fortified outpost with its establishment as a National Monument and the further development and evolution of the park to its present day configuration. A portion of the north end of Anastasia Island would be preserved as an exhibit that commemorates the efforts of the New Deal agencies and local citizens would create a permanent monument to the Spanish history of the site. The central and southern ends of Anastasia Island, and the east side of Highway A1A would continue to be managed to protect and conserve the natural resources of the zone.

The ROD selected alternative B and the NPS will immediately begin to implement that alternative as the GMP. The GMP will guide the management of the national monument over the next 20+ years.

The responsible official for this FEIS/GMP is the Regional Director, NPS Southeast Region, 100 Alabama Street SW., 1924 Building, Atlanta, Georgia 30303.

Dated: August 13, 2014.
Stan Austin,
Regional Director, Southeast Region.

[FR Doc. 2014-21038 Filed 9-3-14; 8:45 am]

BILLING CODE 4310-JD-P